DEPARTMENT OF STATE

[Public Notice: 11753]

Clean Energy Resources Advisory Committee; Meeting

ACTION: Announcement of meeting

SUMMARY: The Department of State will host a virtual, open meeting of the Clean Energy Resources Advisory Committee (CERAC). There will not be an in-person option for this meeting.

DATES: CERAC will meet virtually June 17, 2022 from 11:30 to 1:00 (EST).

ADDRESSES: Participation: Members of the public wishing to participate must RSVP by June 14, 2022 via email to CERAC@state.gov (subject line: RSVP). The Department will provide login information prior to the meeting. Requests for reasonable accommodation should be submitted no later than June 10, 2022. Reasonable accommodation requests received after that date will be considered, but may not be possible to fulfill.

FOR FURTHER INFORMATION CONTACT: Bureau of Energy Resources Energy Officer Ryan Dudek at CERAC@state.gov; (202) 805-3791.

SUPPLEMENTARY INFORMATION:

Purpose: This Committee will provide input and advice regarding energy minerals and metals, their supply chains, and end uses. This second meeting will focus on the advancement of environmental, social, and governance (ESG) standards across clean energy supply chains.

Statements: Comments should be emailed to CERAC@state.gov with “PUBLIC COMMENT” as the subject line at least 48 hours before the start of the meeting. During this meeting, there will not be an option for members of the public to make oral statements.

Amanda E. Rydel,
Administrative Officer, Office of Directives Management, Department of State.

[FR Doc. 2022-11828 Filed 6-1-22; 8:45 am]

BILLING CODE 4710-AE-P